DEPARTMENT OF JUSTICE

Antitrust Division

Notice Pursuant to the National Cooperative Research and Production Act of 1993—United Technologies Research Center

Notice is hereby given that, on January 8, 2001, pursuant to section 6(a) of the National Cooperative Research and Production Act of 1993, 15 U.S.C. 4301 et seq. (“the Act”), United Technologies Research Center has filed written notifications simultaneously with the Attorney General and the Federal Trade Commission disclosing changes in its membership status. The notifications were filed for the purpose of extending the Act's provisions limiting the recovery of antitrust plaintiffs to actual damages under specified circumstances. Specifically, Minnesota Mining and Manufacturing (“3M”), Austin, TX has been dropped effective January 1, 2001, as a party to this venture.

No other changes have been made in either the membership or planned activity of the group research project. Membership in this group research project remains open, and United Technologies Research Center intends to file additional written notification disclosing all changes in membership.

On March 11, 1999, United Technologies Research Center filed its original notification pursuant to section 6(a) of the Act. The Department of Justice published a notice in the Federal Register pursuant to section 6(b) of the Act on May 20, 1999 (64 FR 27604).

The last notification was filed with the Department on July 18, 2000 pursuant to section 6(a) of the Act. The Department of Justice published a notice in the Federal Register pursuant to section 6(b) of the Act on January 11, 2001 (66 FR 2248).

Dated: February 9, 2001.
Constance K. Robinson,
Director of Operations, Antitrust Division.

[FR Doc. 01-4702 Filed 2-26-01; 8:45 am]

BILLING CODE 4410-11-M